DEPARTMENT OF HOMELAND SECURITY

8 CFR Parts 103, 106, 204, 212, 214, 240, 244, 245, 245a, 264, and 274a

[CIS No. 2687-21; DHS Docket No USCIS-2021-0010]

RIN 1615-AC68

U.S. Citizenship and Immigration Services Fee Schedule and Changes to Certain Other Immigration Benefit Request Requirements; Extension of Comment Period

AGENCY: U.S. Citizenship and Immigration Services, Department of Homeland Security.

ACTION: Proposed rule; extension of the comment period.

SUMMARY: On January 4, 2023, DHS published a proposed rule in the Federal Register proposing amendments to certain immigration and naturalization benefit request fees charged by USCIS. DHS is announcing the comment period will be extended an additional 5 business days. As part of this rulemaking, DHS will consider comments received during the entire public comment period, including comments received since publication on January 4, 2023.

DATES: The comment period for the proposed rule published on January 4, 2023, at 86 FR 402 is extended. Written comments and related material must be submitted on or before March 13, 2023. Please refer to the instructions and guidance in the published proposed rule in the Federal Register on January 4, 2023, at 88 FR 402, FR Doc. 2022-27066, for more information on how to submit public comment.

FOR FURTHER INFORMATION CONTACT: Carol Cribbs, Deputy Chief Financial Officer, U.S. Citizenship and Immigration Services, Department of Homeland Security, 5900 Capital Gateway Drive, Camp Springs, MD 20746; telephone 240-721-3000 (this is not a toll-free number). Individuals with hearing or speech impairments may access the telephone numbers above via TTY by calling the toll-free Federal Information Relay Service at 877-889-5627 (TTY/TDD).

SUPPLEMENTARY INFORMATION:

Need for Extension of the Comment Period

On January 4, 2023, DHS published a proposed rule in the Federal Register at 88 FR 402 proposing amendments to certain immigration and naturalization benefit request fees charged by USCIS. On February 14, 2023, an error occurred on the General Service Administration's (GSA) eRulemaking Portal: https://www.regulations.gov. This error caused a technical issue so that the public could not review or submit comments on the proposed rule. GSA corrected the technical issue as soon as they identified it. In the process, the public was unable to review or submit comments for almost 24 hours. Due to this technical issue, accompanied by technical issues that had delayed the upload of several supporting documents by two days at the start of the comment period, DHS is extending the comment period by 5 business days until March 13, 2023. Please submit written comments and related material on or before March 13, 2023. Please refer to the instructions and guidance in the proposed rule (88 FR 402, January 4, 2023) for more information on how to submit public comment. DHS will consider comments received during the entire public comment period.

Christina E. McDonald,
Associate General Counsel for Regulatory Affairs, Office of the General Counsel, U.S. Department of Homeland Security.

[FR Doc. 2023-03906 Filed 2-22-23; 11:15 am]

BILLING CODE 9111-97-P